DEPARTMENT OF DEFENSE

Defense Acquisition Regulations System

48 CFR Parts 201 and 218

[Docket DARS-2020-0017]

RIN 0750-AK99

Defense Federal Acquisition Regulation Supplement: Qualifications Requirements for Contracting Positions (DFARS Case 2020-D012)

AGENCY: Defense Acquisition Regulations System, Department of Defense (DoD).

ACTION: Final rule.

SUMMARY: DoD is issuing a final rule amending the Defense Federal Acquisition Regulation Supplement to implement a section of the National Defense Authorization Act for Fiscal Year 2020 that removes the qualification requirement for contracting professionals to have completed 24 semester credit hours (or equivalent) of study in specifics areas.

DATES: Effective June 5, 2020.

FOR FURTHER INFORMATION CONTACT: Ms. Kerryn Loan, telephone 571-372-6119.

SUPPLEMENTARY INFORMATION:

I. Background

DoD is amending the DFARS to implement section 861 of the National Defense Authorization Act (NDAA) for Fiscal Year (FY) 2019 (Pub. L. 116-92). Section 861 amends section 808 of the NDAA for FY 2000 (Pub. L. 106-398) by removing the requirement for contracting professionals to have completed at least 24 semester credit hours (or equivalent) of study from an accredited institution of higher education in the areas of accounting, business, finance, law, contracts, purchasing, economics, industrial management, marketing, quantitative methods, and organization, and management. The qualification requirement, implemented at Defense Federal Acquisition Regulations Supplement (DFARS) 201.603-2(1)(iii)(B) and 218.201(1), is removed by this final rule in accordance with section 861. The title to DoD Instruction 5000.66 is also updated to read “Defense Acquisition Workforce Education, Training, Experience, and Career Development Program” at DFARS 201.603-2(2)(iii).

II. Applicability to Contracts at or Below the Simplified Acquisition Threshold and for Commercial Items, Including Commercially Available Off-the-Shelf Items

This rule only impacts the internal operating procedures of DoD. As such, the rule does not impose any new requirements on contracts at or below the simplified acquisition threshold or for commercial items, including commercially available off-the-shelf items.

III. Publication of This Final Rule for Public Comment Is Not Required by Statute

The statute that applies to the publication of the Federal Acquisition Regulation (FAR) is Office of Federal Procurement Policy statute (codified at title 41 of the United States Code). Specifically, 41 U.S.C. 1707(a)(1) requires that a procurement policy, regulation, procedure, or form (including an amendment or modification thereof) must be published for public comment if it relates to the expenditure of appropriated funds, and has either a significant effect beyond the internal operating procedures of the agency issuing the policy, regulation, procedure, or form, or has a significant cost or administrative impact on contractors or offerors. This final rule is not required to be published for public comment, because it only impacts processes that are internal to DoD.

IV. Executive Orders 12866 and 13563

Executive Order (E.O.) 12866, Regulatory Planning and Review; and E.O. 13563, Improving Regulation and Regulatory Review, direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. The Office of Management and Budget, Office of Information and Regulatory Affairs, has determined that this is not a significant regulatory action as defined under section 3(f) of E.O. 12866 and, therefore, was not subject to review under section 6(b). This rule is not a major rule as defined at 5 U.S.C. 804(2).

V. Executive Order 13771

This rule is not subject to an E.O. 13771, because this rule is not a significant regulatory action under E.O. 12866.

VI. Regulatory Flexibility Act

Because a notice of proposed rulemaking and an opportunity for public comment are not required to be given for this rule under 41 U.S.C. 1707(a)(1) (see section III. of this preamble), the analytical requirements of the Regulatory Flexibility Act (5 U.S.C. 601 et seq.) are not applicable. Accordingly, no regulatory flexibility analysis is required, and none has been prepared.

VII. Paperwork Reduction Act

The rule does not contain any information collection requirements that require the approval of the Office of Management and Budget under the Paperwork Reduction Act (44 U.S.C. chapter 35).

List of Subjects in 48 CFR Parts 201 and 218

Government procurement.

Jennifer Lee Hawes,
Regulatory Control Officer, Defense Acquisition Regulations System.

Therefore, 48 CFR parts 201 and 218 are amended as follows:

1. The authority citation for 48 CFR parts 201 and 218 continues to read as follows:

Authority: 41 U.S.C. 1303 and 48 CFR chapter 1.

PART 201—FEDERAL ACQUISITION REGULATION SYSTEM

2. Amend section 201.603-2 by revising paragraphs (1)(iii) and (2)(iii) to read as follows:

201.603-2 Selection.

(1) * * *

(iii) Have received a baccalaureate degree from an accredited educational institution; and

* * * * *

(2) * * *

(iii) Is an individual appointed to a 3-year developmental position. Information on developmental opportunities is contained in DoD Instruction 5000.66, Defense Acquisition Workforce Education, Training, Experience, and Career Development Program.

* * * * *

PART 218—EMERGENCY ACQUISITIONS

218.201 [Amended]

3. Amend section 218.201 in paragraph (1) by removing “and 24 semester credit hours of business related courses”.

[FR Doc. 2020-11751 Filed 6-4-20; 8:45 am]

BILLING CODE 5001-06-P